DEPARTMENT OF LABOR

Bureau of Labor Statistics

Federal Economic Statistics Advisory Committee; Notice of Open Meeting and Agenda

The fifth meeting of the Federal Economic Statistics Advisory Committee will be held on March 21, 2003 in the Postal Square Building, 2 Massachusetts Avenue NE., Washington, DC.

The Federal Economic Statistics Advisory Committee is a technical committee composed of economists, statisticians, and behavioral scientists who are recognized for their attainments and objectivity in their respective fields. Committee members are called upon to analyze issues involved in producing Federal economic statistics and recommend practices that will lead to optimum efficiency, effectiveness, and cooperation among the Department of Labor, Bureau of Labor Statistics and the Department of Commerce, Bureau of Economic Analysis and Bureau of the Census.

The meeting will be held in Meeting Rooms 1, 2, and 3 of the Postal Square Building Conference Center. The schedule and agenda for the meeting are as follows:

9:15 a.m. Opening Session

9:30 a.m.

1. Comparison of expenditure estimates, Consumer Expenditure Survey (CE) and Personal Consumption Expenditures (PCE).

2. Comparison of movements in the CPI and PCE price indexes.

11:30 a.m. Progress Report: Research into the use of hedonics in the CPI.

1:15 p.m. Agency edit procedures.

3:15 p.m. Benefit usage data in the Employment Cost Index (ECI).

4:15 p.m. Priorities for future meetings.

5:00 p.m. Conclude (approximate time).

The meeting is open to the public. Any questions concerning the meeting should be directed to Margaret Johnson, Federal Economic Statistics Advisory Committee, on Area Code (202) 691-5600. Individuals with disabilities, who need special accommodations, should contact Ms. Johnson at least two days prior to the meeting date.

Signed at Washington, DC the 19th day of February 2003.
Kathleen P. Utgoff,
Commissioner of Labor Statistics.

[FR Doc. 03-4401 Filed 2-24-03; 8:45 am]

BILLING CODE 4510-24-P